DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: February 20, 2020, 10:00 a.m.

PLACE: Room 2C, 888 First Street NE, Washington, DC 20426.

STATUS: Open.

MATTERS TO BE CONSIDERED: Agenda. *Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1065th—Meeting
[Open meeting; February 20, 2020, 10:00 a.m.]
Item No. | Docket No. | Company
Administrative
A-1 | AD20-1-000 | Agency Administrative Matters.
A-2 | AD20-2-000 | Customer Matters, Reliability, Security and Market Operations.
Electric
E-1 | ER19-1939-000 | Arizona Public Service Company.
E-2 | ER19-1950-000 | California Independent System Operator Corporation.
E-3 | ER19-1956-000; ER19-1956-001 | Cube Yadkin Transmission LLC.
E-4 | ER19-1902-001 | Deseret Generation & Transmission Co-operative, Inc.
E-5 | ER19-1953-000 | El Paso Electric Company.
E-6 | ER19-1916-000; ER19-1916-001 | Louisville Gas and Electric Company.
E-7 | ER19-1949-000 | New York Independent System Operator, Inc.
E-8 | EL13-62-001; EL13-62-002 | Independent Power Producers of New York, Inc. v. New York Independent System Operator, Inc.
E-9 | EL19-86-000 | New York State Public Service Commission and New York State Energy Research and Development Authority v. New York Independent System Operator, Inc.
E-10 | EL16-92-001 | New York State Public Service Commission, New York Power Authority, Long Island Power Authority, New York State Energy Research and Development Authority, City of New York, Advanced Energy Management Alliance, and Natural Resources Defense Council v. New York Independent System Operator, Inc.
| ER17-996-000 | New York Independent System Operator, Inc.
E-11 | ER16-1404-000 | New York Independent System Operator, Inc.
E-12 | EL15-67-002; EL15-67-003 | Linden VFT, LLC v. PJM Interconnection, L.L.C.
| ER15-2562-002; ER14-972-005; ER14-972-006 | PJM Interconnection, L.L.C.
| EL15-18-003; EL15-18-004 | Consolidated Edison Company of New York, Inc. v. PJM Interconnection, L.L.C.
E-13 | EL17-68-000 | Linden VFT, LLC v. PJM Interconnection, L.L.C.
E-14 | ER17-950-000; ER17-950-001; ER17-950-002; ER17-950-003 | PJM Interconnection, L.L.C.
E-15 | ER16-1341-004 | Southwest Power Pool, Inc.
E-16 | ER16-1341-003; ER16-1341-004 | Southwest Power Pool, Inc.
| EL17-21-001 | Kansas Electric Power Cooperative, Inc. v. Southwest Power Pool, Inc.
| EL18-9-001 | Xcel Energy Services Inc. v. Southwest Power Pool, Inc.
| EL19-75-000 | EDF Renewables, Inc., Enel Green Power North America, Inc., NextEra Energy Resources, LLC, and Southern Power Company v. Southwest Power Pool, Inc.
| EL19-77-000 | Oklahoma Gas & Electric Company v. Southwest Power Pool, Inc.
| ER18-1702-002 | Southwest Power Pool, Inc.
E-17 | ER15-2028-003 | Southwest Power Pool, Inc.
E-18 | ER15-2115-004 | Southwest Power Pool, Inc.
E-19 | RM20-8-000 | Virtualization and Cloud Computing Services.
E-20 | RM19-2-001 | Refinements to Horizontal Market Power Analysis for Sellers in Certain Regional Transmission Organization and Independent System Operator Markets.
E-21 | RM16-17-001 | Data Collection for Analytics and Surveillance and Market-Based Rate Purposes.
E-22 | RD20-2-000 | North American Electric Reliability Corporation.
E-23 | ER19-1945-000 | Pacific Gas and Electric Company, Southern California Edison Company, and San Diego Gas & Electric Company.
E-24 | ER19-260-001 | Duke Energy Carolinas, LLC.
E-25 | OMITTED
E-26 | ER19-538-001 | California Independent System Operator Corporation.
E-27 | ER20-308-000 | ISO New England Inc.
Gas
G-1 | OR14-35-003 | HollyFrontier Refining & Marketing LLC, Southwest Airlines Co., Tesoro Refining and Marketing Company, US Airways, Inc., Valero Marketing and Supply Company, and Western Refining Company, L.P. v. SFPP, L.P.
| OR14-36-003 | Chevron Products Company v. SFPP, L.P.
| OR19-21-000 | American Airlines, Inc., Chevron Products Company, HollyFrontier Refining & Marketing LLC, Southwest Airlines Co., and Valero Marketing and Supply Company v. SFPP, L.P.
| OR19-33-000 | Tesoro Refining & Marketing Company LLC and Western Refining Company, L.P. v. SFPP, L.P.
| OR19-37-000 | Phillips 66 Company v. SFPP, L.P.
G-2 | RM17-1-000 | Revisions to Indexing Policies and Page 700 of FERC Form No. 6.
| RM15-19-000 | Petition for a Rulemaking of the Liquids Shippers Group, Airlines for America, and the National Propane Gas Association.
Hydro
H-1 | P-67-133; P-120-028; P-2085-020, P-2086-039; P-2174-017; P-2175-021 | Southern California Edison Company.
H-2 | P-2514-188 | Appalachian Power Company.
H-3 | P-1494-447 | Grand River Dam Authority.
Certificates
C-1 | CP17-458-005 | Midship Pipeline Company, LLC.
C-2 | CP15-558-000 | PennEast Pipeline Company, LLC.
C-3 | OMITTED
C-4 | CP16-116-001 | Texas LNG Brownsville LLC.
C-5 | CP16-480-001 | Annova LNG Common Infrastructure, LLC, Annova LNG Brownsville A, LLC, Annova LNG Brownsville B, LLC, and Annova LNG Brownsville C, LLC.
C-6 | CP19-7-000 | Tennessee Gas Pipeline Company, L.L.C.
C-7 | CP19-7-001 | Tennessee Gas Pipeline Company, L.L.C.
C-8 | CP17-495-000 | Jordan Cove Energy Project L.P.
| CP17-494-000 | Pacific Connector Gas Pipeline, LP.
C-9 | CP16-9-009 | Algonquin Gas Transmission, LLC.
C-10 | CP19-11-000 | Sabine Pass LNG, L.P.
C-11 | CP19-479-000 | Northern Natural Gas Company.
C-12 | CP19-99-000 | Natural Gas Pipeline Company of America LLC.

Issued: February 13, 2020.
Nathaniel J. Davis, Sr.,
Deputy Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2020-03385 Filed 2-14-20; 4:15 pm]

BILLING CODE 6717-01-P